DEPARTMENT OF HOUSING AND URBAN DEVELOPMENT

[Docket No. FR-4972-N-02]

Notice of Proposed Information Collection: Comment Request, Optional Relocation Payment Claim Forms

AGENCY: Office of the Assistant Secretary for Community Planning and Development, HUD.

ACTION: Notice.

SUMMARY: The proposed information collection requirement described below will be submitted to the Office of Management and Budget (OMB) for review, as required by the Paperwork Reduction Act. The Department is soliciting public comments on the subject proposal.

DATES: Comments Due Date: April 18, 2005.

ADDRESSES: Interested persons are invited to submit comments regarding this proposal. Comments should refer to the proposal by name and/or OMB Control Number and should be sent to: Shelia Jones, Reports Liaison Officer, Department of Housing and Urban Development, 451 7th Street, SW., Room 7232, Washington, DC 20410.

FOR FURTHER INFORMATION CONTACT: Joan Morgan, Director, Relocation and Real Estate Division, DGHR, Department of Housing and Urban Development, 451 Seventh Street, SW., Rm. 7168, Washington, DC 20410; e-mail Joan_Morgan@HUD.gov, (202) 708-0614. This is not a toll-free number. Copies of the proposed forms and other available documents submitted to OMB may be obtained from Ms. Morgan.

SUPPLEMENTARY INFORMATION: The Department is submitting the proposed information collection to OMB for review, as required by the Paperwork Reduction Act of 1995 (44 U.S.C. Chapter 35, as Amended).

This Notice is soliciting comments from members of the public and affecting agencies concerning the proposed collection of information to: (1) Evaluate whether the proposed collection of information is necessary for the proper performance of the functions of the agency, including whether the information will have practical utility; (2) Evaluate the accuracy of the agency's estimate of the burden of the proposed collection of information; (3) Enhance the quality, utility, and clarity of the information to be collected; and (4) Minimize the burden of the collection of information on those who are to respond; including through the use of appropriate automated collection techniques or other forms of information technology, e.g., permitting electronic submission of responses.

This Notice also lists the following information:

Title of Proposal: Optional Relocation Payment Claim Forms.

OMB Control Number, if applicable: 2506-0016.

Description of the need for the information and proposed use: Application for displacement/relocation assistance for persons (families, individuals, businesses, nonprofit organizations and farms) displaced by certain HUD programs. Revised government-wide URA regulations were published by the Department of Transportation on January 4, 2005 (effective February 3, 2005). Changes in these regulations which will impact on HUD forms are: Including the cost of professional home inspections in replacement housing payments for homeowners (24.401(e)(4)), and implementing the use of HUD low income limits to determine eligibility for URA benefits applicable to low income persons (24.402(b)(2)). Only the HUD-40054 and 40058 will be affected by these changes and will be revised to conform to the new regulations and improve the flow of the form. The HUD-40055, 40056, and 40057 will be revised to more closely track the existing regulations and improve the flow of the forms. A minor change is being made to the HUD-40061 to eliminate the requirement that the agency make adjustments to the asking price for a property to reflect an anticipated sale price (this requirement was eliminated in the new rule). No changes are being made in the HUD-40072.

Agency form numbers, if applicable: HUD-40054, 40055, 40056, 40057, 40058, 40061, 40072.

Estimation of the total numbers of hours needed to prepare the Information collection including number of respondents, frequency of response, and hours of response.

Status of the proposed information collection: Revision.

Number of Respondents: 12,800.

Frequency of Response: 3.

Hours per Response: 8.

Total Estimated Burden Hours: 31,000 (no change).

Authority: The Paperwork Reduction Act of 1995, 44 U.S.C. Chapter 35, as amended.

Dated: February 9, 2005.
Nelson R. Bregon,
General Deputy Assistant, Secretary for Community Planning and Development.

[FR Doc. 05-2931 Filed 2-15-05; 8:45 am]

BILLING CODE 4210-29-M